COMMISSION ON CIVIL RIGHTS

Agenda and Notice of Public Meeting of the Louisiana Advisory Committee

Notice is hereby given, pursuant to the provisions of the rules and regulations of the U.S. Commission on Civil Rights (Commission), and the Federal Advisory Committee Act (FACA), that a State Advisory Committee (SAC) meeting of the Louisiana Advisory Committee to the Commission will convene on Tuesday, November 30, 2010 at 2 p.m. and adjourn at approximately 5 p.m. (CST) at Louisiana State University Honors College, French House, Grand Salon, Highland Road & South Campus Drive, Louisiana State University, Baton Rouge, LA. The purpose of the meeting is to begin planning a future civil rights project.

Members of the public are entitled to submit written comments. The comments must be received in the regional office by December 15, 2010. The address is U.S. Commission on Civil Rights, 400 State Avenue, Suite 908, Kansas City, Kansas 66101. Persons wishing to e-mail their comments, or to present their comments verbally at the meeting, or who desire additional information should contact Farella E. Robinson, Regional Director, Central Regional Office, at (913) 551-1400, (or for hearing impaired TDD 913-551-1414), or by e-mail to frobinson@usccr.gov.

Hearing-impaired persons who will attend the meeting and require the services of a sign language interpreter should contact the Regional Office at least ten (10) working days before the scheduled date of the meeting.

Records generated from this meeting may be inspected and reproduced at the Central Regional Office, as they become available, both before and after the meeting. Persons interested in the work of this advisory committee are advised to go to the Commission's Web site, http://www.usccr.gov, or to contact the Central Regional Office at the above e-mail or street address.

The meeting will be conducted pursuant to the provisions of the rules and regulations of the Commission and FACA.

Dated in Washington, DC, on November 4, 2010.
Peter Minarik,
Acting Chief, Regional Programs Coordination Unit.

[FR Doc. 2010-28218 Filed 11-8-10; 8:45 am]

BILLING CODE 6335-01-P